ENVIRONMENTAL PROTECTION AGENCY

40 CFR Part 261

[FRL 9704-1]

Hazardous Waste Management System: Identification and Listing of Hazardous Waste Amendment

AGENCY: Environmental Protection Agency (EPA).

ACTION: Final rule; amendment.

SUMMARY: The EPA (also, “the Agency” or “we”) is amending an existing exclusion to reflect changes in ownership and name for the ConocoPhillips Billings, Montana Refinery. Today's amendment documents these changes.

DATES: This amendment is effective on July 23, 2012.

FOR FURTHER INFORMATION CONTACT: Christina Cosentini, by mail at EPA Region 8, Resource Conservation and Recovery Program, 1595 Wynkoop Street, Mail Code 8P-R, Denver, Colorado 80202, by phone at (303) 312-6231, or by email at cosentini.christina@epa.gov.

SUPPLEMENTARY INFORMATION: In this document the EPA is amending appendix IX to part 261 to reflect a change in the ownership and name of a particular facility. Today's notice documents the transfer of ownership and name change by updating appendix IX to incorporate the change in owner's name for the ConocoPhillips Billings, Montana Refinery. On May 3, 2012, the EPA was notified that ownership of the Billings, Montana Refinery had been transferred to Phillips 66 Company. Phillips 66 Company certified that the management and operation of the Billings Refinery has not changed due to the restructuring. This notice documents the change by updating appendix IX to incorporate a change in name.

These changes to appendix IX of part 261 are effective July 23, 2012. The Hazardous and Solid Waste Amendments of 1984 amended section 3010 of the Resource Conservation and Recovery Act (RCRA) to allow rules to become effective in less than six months when the regulated community does not need the six-month period to come into compliance. As described above, the change in ownership will not affect the refineries operations. Therefore, a six-month delay in the effective date is not necessary in this case. This provides the basis for making this amendment effective immediately upon publication under the Administrative Procedures Act pursuant to 5 United States Code (U.S.C.) 5531(d).

List of Subjects in 40 CFR Part 261

Environmental protection, Hazardous waste, Recycling, and Reporting and recordkeeping requirements.

Authority: RCRA 3001(f), 42 U.S.C. 6921(f).

Dated: June 28, 2012.
Howard M. Cantor,
Acting Regional Administrator, Region 8.

For the reasons set out in the preamble, 40 CFR part 261 is amended as follows:

PART 261—IDENTIFICATION AND LISTING OF HAZARDOUS WASTE

1. The authority citation for part 261 continues to read as follows:

Authority: 42 U.S.C. 6905, 6912(a), 6921, 6922, 6924(y) and 6938.

2. In Table 1 of Appendix IX to part 261 is amended by removing the ” ConocoPhillips Billings Refinery ” entry and adding a new entry “Phillips 66 Company, Billings Refinery” in alphabetical order by facility to read as follows:

Appendix IX to Part 261—Waste Excluded Under §§ 260.20 and 260.22

Table 1—Waste Excluded From Non-Specific Sources
Facility | Address | Waste description
* * * * * * *
Phillips 66 Company, Billings Refinery (formerly ConocoPhillips Billings Refinery) | Billings, Montana | Residual solids from centrifuge and/or filter press processing of storm water tank sludge (F037) generated at a maximum annual rate of 200 cubic yards per year must be disposed in a lined Subtitle D landfill, licensed, permitted or otherwise authorized by a state to accept the delisted processed storm water tank sludge. The exclusion became effective March 1, 2012. For the exclusion to be valid, Phillips 66 must implement a verification testing program that meets the following Paragraphs:
|  | 1. Delisting levels: The constituent concentrations in a leachate extract of the waste measured in any sample must not exceed the following concentrations (mg/L TCLP): Acenaphthene-37.9; Antimony-.97; Anthracene-50; Arsenic-.301; Barium-100; Benz(a)anthracene-.25; Benzene-.5; Benzo(a)pyrene-1.1; Benzo(b)fluoranthene-8.7; Benzo(k) fluoranthene-50; Bis(2-ethylhexyl)phthalate -50; 2-Butanone -50; Cadmium-1.0; Carbon disulfide-36; Chromium- 5.0; Chrysene-25.0; Cobalt-.763; Cyanide(total)-41.2; Dibenz(a,h)anthrancene-1.16; Di-n-octyl phthalate-50; 1,4-Dioxane -36.5; Ethylbenzene-12; Fluoranthene -8.78; Fluorene-17.5; Indeno(1,2,3-cd)pyrene-27.3; Lead-5.0; Mercury-.2; m&p -Cresol-10.3; Naphthalene-1.17; Nickel-48.2; o-Cresol-50; Phenanthrene-50; Phenol-50; Pyrene-15.9; Selenium -1.0; Silver-5.0; Tetrachloroethene-0.7; Toluene-26;Trichloroethene -.403; Vanadium-12.3; Xylenes (total)-22; Zinc-500.
|  | 2. Verification Testing: To verify that the waste does not exceed the specified delisting levels, Phillips 66 must collect and analyze two composite samples of the residual solids from the processed sludge to account for potential variability in each tank. Composite samples must be collected each time cleanout occurs and residuals are generated. Sample collection and analyses, including quality control procedures, must be performed using appropriate methods. If oil and grease comprise less than 1 percent of the waste, SW-846 Method 1311 must be used for generation of the leachate extract used in the testing for constituents of concern listed above. SW-846 Method 1330A must be used for generation of the leaching extract if oil and grease comprise 1 percent or more of the waste. SW-846 Method 9071B must be used for determination of oil and grease. SW-846 Methods 1311, 1330A, and 9071B are incorporated by reference in 40 CFR 260.11. As applicable, the SW-846 methods might include Methods 1311, 3010, 3510, 6010, 6020, 7470, 7471, 8260, 8270, 9014, 9034, 9213, and 9215. If leachate concentrations measured in samples do not exceed the levels set forth in paragraph 1, Phillips 66 can dispose of the processed sludge in a lined Subtitle D landfill which is permitted, licensed, or registered by the state of Montana or other state which is subject to Federal RCRA delisting.
|  | If constituent levels in any sample and any retest sample for any constituent exceed the delisting levels set in paragraph (1) Phillips 66 must do the following:
|  | (A) Notify the EPA in accordance with paragraph (5) and; (B) Manage and dispose of the process residual solids as F037 hazardous waste generated under Subtitle C of RCRA.
|  | 3. Changes in Operating Conditions: Phillips 66 must notify the EPA in writing if the manufacturing process, the chemicals used in the manufacturing process, the treatment process, or the chemicals used in the treatment process significantly change. Phillips 66 must handle wastes generated after the process change as hazardous until it has: demonstrated that the wastes continue to meet the delisting concentrations in paragraph (1); demonstrated that no new hazardous constituents listed in appendix VIII of part 261 have been introduced; and it has received written approval from the EPA.
|  | 4. Data Submittal: Whenever tank cleanout is conducted Phillips 66 must verify that the residual solids from the processed storm water tank sludge meet the delisting levels in 40 CFR 261 Appendix IX Table 1, as amended by this notice. Phillips 66 must submit the verification data to U.S. EPA Region 8, 1595 Wynkoop Street, RCRA Delisting Program, Mail code 8P-HW, Denver, CO 80202. Phillips 66 must compile, summarize and maintain onsite records of tank cleanout and process operating conditions and analytical data for a period of five years.
|  | 5. Reopener Language: (A) If, anytime after final approval of this exclusion, Phillips 66 possesses or is otherwise made aware of any environmental data (including but not limited to leachate data or ground water monitoring data) or any other data relevant to the delisted waste indicating that any constituent identified for the delisting verification testing is at level higher than the delisting level allowed by the EPA in granting the petition, then the facility must report the data, in writing to the EPA at the address above, within 10 days of first possessing or being made aware of that data.
|  | (B) If Phillips 66 fails to submit the information described in paragraph (A) or if any other information is received from any source, the EPA will make a preliminary determination as to whether the reported information requires EPA action to protect human health or the environment. Further action may include suspending, or revoking the exclusion, or other appropriate response necessary to protect human health and the environment.
|  | (C) If the EPA determines that the reported information requires the EPA action, the EPA will notify the facility in writing of the actions the agency believes are necessary to protect human health and the environment. The notice shall include a statement of the proposed action and a statement providing the facility with an opportunity to present information as to why the proposed the EPA action is not necessary. The facility shall have 30 days from the date of the notice to present such information.
|  | (D) If after 30 days Phillips 66 presents no further information or after a review of any submitted information, the EPA will issue a final written determination describing the Agency actions that are necessary to protect human health or the environment. Any required action described in the EPAs determination shall become effective immediately, unless the EPA provides otherwise.
|  | (E) Notification Requirements: Phillips 66 must do the following before transporting the delisted waste: Failure to provide this notification will result in a violation of the delisting petition and a possible revocation of the decision.
|  | (1) Provide a one-time written notification to any State Regulatory Agency to which or through which it will transport the delisted waste described above for disposal, 60 days before beginning such activities.
|  | (2) Update the onetime written notification, if it ships the delisted waste to a different disposal facility.
|  | (3) Failure to provide this notification will result in a violation of the delisting variance and a possible revocation of the decision.
* * * * * * *

[FR Doc. 2012-17905 Filed 7-20-12; 8:45 am]

BILLING CODE 6560-50-P